DEPARTMENT OF TRANSPORTATION

Federal Aviation Administration

14 CFR Part 39

[Docket No. FAA-2013-0426; Directorate Identifier 2013-NM-084-AD; Amendment 39-17463; AD 2013-11-03]

RIN 2120-AA64

Airworthiness Directives; Bombardier, Inc. Airplanes

AGENCY: Federal Aviation Administration (FAA), Department of Transportation (DOT).

ACTION: Final Rule; Request for Comments.

SUMMARY: We are adopting a new airworthiness directive (AD) for certain Bombardier, Inc. Model CL-215-1A10 and CL-215-6B11 (CL-215T Variant) airplanes. This AD requires repetitive detailed inspections for cracking of the left-hand (LH) and right-hand (RH) wing lower skin, and repair if necessary. This AD also provides terminating action for the repetitive detailed inspections. This AD was prompted by reports of a fractured wing lower rear spar cap and reinforcing strap. We are issuing this AD to detect and correct cracked wing structure, which could result in failure of the wing.

DATES: This AD becomes effective June 14, 2013.

The Director of the Federal Register approved the incorporation by reference of a certain publication listed in the AD as of June 14, 2013.

We must receive comments on this AD by July 15, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Ricardo Garcia, Aerospace Engineer, Airframe and Mechanical Systems Branch, ANE-171, FAA, New York Aircraft Certification Office (ACO), 1600 Stewart Avenue, Suite 410, Westbury, New York 11590; telephone (516) 228-7331; fax (516) 794-5531.

SUPPLEMENTARY INFORMATION:

Discussion

Transport Canada Civil Aviation (TCCA), which is the aviation authority for Canada, has issued Emergency Canadian Airworthiness Directive CF-2013-11, dated April 17, 2013 (referred to after this as the Mandatory Continuing Airworthiness Information, or “the MCAI”), to correct an unsafe condition for the specified products. The MCAI states:

While performing modifications on a CL-215-1A10 aeroplane, an operator discovered that the wing lower rear spar cap and reinforcing strap were fractured at Wing Stations (WS) 49.5 and 50 respectively and the rear spar web and wing lower skin were also cracked. It is suspected that a crack initiated at the wing lower spar cap, leading to its failure, the subsequent failure of the reinforcing strap and cracking of the spar web and wing lower skin. The damage was outside of the area addressed by the repetitive ultrasonic inspections required by AD CF-1992-26R2 [which corresponds to FAA AD 2012-11-04, Amendment 39-17067 (77 FR 32892, June 4, 2012)] and was found 95 hours air time after the last ultrasonic inspection.

Failure and cracking of the above-noted wing structure, if not detected, could result in failure of the wing. In order to mitigate the unsafe condition, this [Canadian] AD mandates a repetitive [detailed] visual inspection [for cracking] of the wing lower skin until an eddy current inspection [for cracking] of the [LH and RH wing lower front and rear] spar cap[s] is performed or a [detailed] visual inspection [for cracking] of the wing structures [i.e., the LH and RH wing lower skin, front and rear spar caps, front and rear spar webs, and reinforcing straps] is performed by removing the fuel bladder[, and repair if any cracking is found during any inspection]. Transport Canada may mandate additional corrective actions pending the outcome of the failure investigation and fleet findings. The requirements of AD CF-1992-26R2 remain applicable.

The terminating action is doing either a detailed inspection for cracking of the LH and RH wing lower skin, front and rear spar caps, front and rear spar webs, and reinforcing straps or an optional eddy-current inspection for cracking of the LH and RH wing lower front and rear spar caps and repair if necessary. You may obtain further information by examining the MCAI in the AD docket.

Relevant Service Information

Bombardier, Inc. has issued Alert Service Bulletin 215-A558, dated April 5, 2013. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

The service information specifies to contact the manufacturer for instructions on how to repair certain conditions, but this AD requires repairing those conditions using a method approved by the FAA or TCCA (or its delegated agent).

Interim Action

We considered this AD interim action. The inspection reports that are required by this AD will enable us to obtain better insight into the nature, cause, and extent of the cracking, and eventually to develop final action to address the unsafe condition. Once final action has been identified, we might consider further rulemaking.

FAA's Determination of the Effective Date

An unsafe condition exists that requires the immediate adoption of this AD. The FAA has found that the risk to the flying public justifies waiving notice and comment prior to adoption of this rule because an operator discovered that the wing lower rear spar cap and reinforcing strap were fractured at WS 49.5 and 50 respectively, and that the rear spar web and wing lower skin were also cracked. Failure and cracking of the wing structure, if not detected, could result in failure of the wing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0426; Directorate Identifier 2013-NM-084-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 5 products of U.S. registry. We also estimate that it will take up to 20 work-hours per product to comply with the basic requirements of this AD. The average labor rate is $85 per work-hour. Based on these figures, we estimate the cost of this AD to the U.S. operators to be $8,500, or $1,700 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-11-03 Bombardier, Inc.: Amendment 39-17463. Docket No. FAA-2013-0426; Directorate Identifier 2013-NM-084-AD.

(a) Effective Date

This airworthiness directive (AD) becomes effective June 14, 2013.

(b) Affected ADs

None.

(c) Applicability

This AD applies to Bombardier, Inc. Model CL-215-1A10 airplanes, serial numbers (S/Ns) 1001 through 1125 inclusive; and Model CL-215-6B11 (CL-215T Variant) airplanes, S/Ns 1056 through 1125 inclusive; certificated in any category.

(d) Subject

Air Transport Association (ATA) of America Code 57; Wings.

(e) Reason

This AD was prompted by reports of a fractured wing lower rear spar cap and reinforcing strap. We are issuing this AD to detect and correct cracked wing structure, which could result in failure of the wing.

(f) Compliance

You are responsible for having the actions required by this AD performed within the compliance times specified, unless the actions have already been done.

(g) Inspection and Repair

Within 10 flight hours after the effective date of this AD, do a detailed inspection for cracking of the left-hand (LH) and right-hand (RH) wing lower skin between wing stations (WS) 45.00 and 51.00, in accordance with Part A of Bombardier Alert Service Bulletin 215-A558, dated April 5, 2013. Repeat the inspection thereafter at intervals not to exceed 25 flight hours, until the inspection specified in paragraph (h)(1) or (h)(2) of this AD has been accomplished. If any cracking is found during the inspection required by paragraph (g) of this AD, before further flight, repair the crack using a method approved by the Manager, New York Aircraft Certification Office (ACO), FAA; or Transport Canada Civil Aviation (TCCA) (or its delegated agent).

(h) Optional Terminating Actions

(1) Accomplishing a one-time detailed inspection for cracking of the LH and RH wing lower skin, front and rear spar caps, front and rear spar webs, and reinforcing straps, in accordance with Part B of Bombardier Alert Service Bulletin 215-A558, dated April 5, 2013, terminates the actions required by paragraph (g) of this AD. If any cracking is found during the one-time detailed inspection, before further flight, repair the crack using a method approved by the Manager, New York ACO, FAA; or TCCA (or its delegated agent).

(2) Accomplishing a one-time eddy current inspection for cracking of the LH and RH wing lower front and rear spar caps, in accordance with paragraph 3.B. and paragraphs 4. through 9. (Part C-1), and paragraphs 10. through 16. (Part C-2), of Bombardier Alert Service Bulletin 215-A558, dated April 5, 2013, terminates the actions required by paragraph (g) of this AD. If any cracking is found during the one-time eddy current inspection, before further flight, repair the crack using a method approved by the Manager, New York ACO, FAA; or TCCA (or its delegated agent).

(i) Reporting Requirement

Submit a report of the crack findings of the inspections specified in paragraphs (g), (h)(1), and (h)(2) of this AD to Bombardier Aerospace Specialized and Amphibious Aircraft Technical Support at email: mtl.saa.tech.support@aero.bombardier.com. Submit the report at the applicable time specified in paragraph (i)(1) or (i)(2) of this AD. The report must include the inspection results, a description of any discrepancies found, the airplane serial number, and the number of landings and flight hours on the airplane.

(1) If the inspection was done on or after the effective date of this AD: Submit the report within 14 days after the inspection.

(2) If the inspection was done before the effective date of this AD: Submit the report within 14 days after the effective date of this AD.

(j) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

Refer to Mandatory Continuing Airworthiness Information Canadian Emergency Airworthiness Directive CF-2013-11, dated April 17, 2013; and Bombardier Alert Service Bulletin 215-A558, dated April 5, 2013; for related information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier Alert Service Bulletin 215-A558, dated April 5, 2013.

(ii) Reserved.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 17, 2013.
Jeffrey E. Duven,
Acting Manager, Transport Airplane Directorate, Aircraft Certification Service.

[FR Doc. 2013-12615 Filed 5-29-13; 8:45 am]

BILLING CODE 4910-13-P